DEPARTMENT OF DEFENSE

GENERAL SERVICES ADMINISTRATION

NATIONAL AERONAUTICS AND SPACE ADMINISTRATION

[OMB Control No. 9000-0180; Docket No. 2014-0055; Sequence 20]

Submission to OMB for Review; Biobased Procurements

AGENCY: Department of Defense (DOD), General Services Administration (GSA), and National Aeronautics and Space Administration (NASA).

ACTION: Notice of request for public comments regarding an extension to an existing OMB clearance.

SUMMARY: Under the provisions of the Paperwork Reduction Act (44 U.S.C. chapter 35), the Regulatory Secretariat Division (MVCB) will be submitting to the Office of Management and Budget (OMB) a request to review and approve an extension of a previously approved information collection requirement regarding Biobased Procurements. A notice was published in the Federal Register at 79 FR 49318 on August 20, 2014. No comments were received.

DATES: Submit comments on or before December 1, 2014.

ADDRESSES: Submit comments identified by Information Collection 9000-0180, Biobased Procurements, by any of the following methods:

• Regulations.gov: http://www.regulations.gov. Submit comments via the Federal eRulemaking portal by searching the OMB control number 9000-0180. Select the link “Comment Now” that corresponds with “Information Collection 9000-0180, Prohibition on Acquisition of Products Produced by Forced or Indentured Child Labor”. Follow the instructions provided on the screen. Please include your name, company name (if any), and “Information Collection 9000-0180, Prohibition on Acquisition of Products Produced by Forced or Indentured Child Labor” on your attached document.

• Fax: 202-501-4067.

• Mail: General Services Administration, Regulatory Secretariat Division (MVCB), 1800 F Street NW., Washington, DC 20405. ATTN: Ms. Hada FlowersIC 9000-0180, Prohibition on Acquisition of Products Produced by Forced or Indentured Child Labor.

Instructions: Please submit comments only and cite Information Collection 9000-0180, Prohibition on Acquisition of Products Produced by Forced or Indentured Child Labor, in all correspondence related to this collection. All comments received will be posted without change to http://www.regulations.gov, including any personal andor business confidential information provided

FOR FURTHER INFORMATION CONTACT: Mr. Edward Chambers, Procurement Analyst, Office of Governmentwide Acquisition Policy, at telephone 202-501-3221 or email Edward.chamber@gsa.gov.

SUPPLEMENTARY INFORMATION:

A. Purpose

Federal Acquisition Regulation clause 52.223-2, Affirmative Procurement of Biobased Products Under Service and Construction Contracts, requires prime contractors to report annually the product types and dollar values of U.S. Department of Agriculture (USDA)-designated biobased products purchased to the System for Award Management (SAM) Web site. The information reported by prime contractors enables Federal agencies to report annually to the Office of Federal Procurement Policy (OFPP) concerning actions taken to implement and measure progress in carrying out the preference for biobased products required under section 9002 of the Farm Security and Rural Investment Act of 2002, codified at 7 U.S.C. 8102.

B. Annual Reporting Burden

A reassessment of 52.223-2 was preformed. Based on the comprehensive reassessment performed, this information collection resulted in an increase in the total burden hours from the previous information collection that was published in the Federal Register at 76 FR 81940 on December 29, 2011. Federal Procurement Data System (FPDS) was searched to determine the number of unique DUNS numbers for the following selected Product Services Codes: A-Research and Development; F-Natural Resources Management; J-Maintenance, Repair, and Rebuilding of Equipment; M-Operation of Government-Owned Facility; S-Utilities and Housekeeping Services; T-Photographic, Mapping, Printing, and Publication Services; Y-Construction of Structures and Facilities; and Z-Maintenance, Repair or Alteration of Real Property. The clause will apply to the majority of the contract actions in the selected PSCs. The increase is likely a result of increased awareness of the biobased requirements and use of the contract clause in service and construction contracts.

Respondents: 64,123.

Responses per Respondent: 5.

Hours per Response: 5.

Total Burden Hours: 1,603,075.

C. Public Comments

Public comments are particularly invited on: Whether this collection of information is necessary for the proper performance of functions of the FAR, and whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

Obtaining Copies of Proposals: Requesters may obtain a copy of the information collection documents from the General Services Administration, Regulatory Secretariat Division (MVCB), 1800 F Street NW., Washington, DC 20405, telephone 202-501-4755. Please cite OMB Control No. 9000-0180, Biobased Procurements, in all correspondence.

Dated: October 27, 2014.
Edward Loeb,
Acting Director, Federal Acquisition Policy Division, Office of Government-wide Acquisition Policy, Office of Acquisition Policy, Office of Government-wide Policy.

[FR Doc. 2014-25808 Filed 10-29-14; 8:45 am]

BILLING CODE 6820-EP-P